DEPARTMENT OF TRANSPORTATION

National Highway Traffic Safety Administration

[Docket No. NHTSA-2013-0137]

Visual-Manual NHTSA Driver Distraction Guidelines for Portable and Aftermarket Electronic Devices

AGENCY: National Highway Traffic Safety Administration (NHTSA), Department of Transportation (DOT).

ACTION: Announcement of public meeting.

SUMMARY: Through this notice, NHTSA is announcing a public meeting to bring together vehicle manufacturers and suppliers, portable and aftermarket device manufacturers, portable and aftermarket device operating system providers, cellular service providers, industry associations, “app” developers, researchers, and consumer groups to discuss technical issues regarding the agency's development of Phase 2 Driver Distraction Guidelines for portable and aftermarket devices.

DATES: Public Meeting. NHTSA will hold a public meeting on March 12, 2014, in Washington, DC. The meeting will start at 1 p.m. and continue until 5 p.m., local time. If you would like to attend the public meeting, please contact the person identified under FOR FURTHER INFORMATION CONTACT no later than March 3, 2014. If you would like to present technical remarks, please contact the person identified under FOR FURTHER INFORMATION CONTACT no later than March 7, 2014.

Remote Viewing. Remote viewing will be available via web, please check http://www.distraction.gov the day before the meeting on March 11, 2014 for instructions on how to connect.

Written comments. Please submit all written comments not later than May 12, 2014.

ADDRESSES: Meeting. The March 12, 2014, public meeting will be held at the U.S. Department of Transportation, West Building Ground Floor, Media Center—Room W11-130, 1200 New Jersey Avenue SE., Washington, DC 20590. This facility is accessible to individuals with disabilities.

Written comments. You may submit comments to the docket number NHTSA-2013-0137 by any of the following methods:

• Federal eRulemaking Portal: Go to http://www.regulations.gov. Follow the online instructions for submitting comments.

• Mail: Docket Management Facility: U.S. Department of Transportation, 1200 New Jersey Avenue SE., West Building Ground Floor, Room W12-140, Washington, DC 20590-0001.

• Hand Delivery or Courier: 1200 New Jersey Avenue SE., West Building Ground Floor, Room W12-140, between 9 a.m. and 5 p.m. ET, Monday through Friday, except Federal holidays.

• Fax: 202-493-2251.

Instructions: All submissions must include the agency name and docket number. Note that all comments received will be posted without change to http://www.regulations.gov, including any personal information provided. Please see the Privacy Act discussion below.

Docket: For access to the docket to read background documents or comments received, go to http://www.regulations.gov at any time or to 1200 New Jersey Avenue SE., West Building Ground Floor, Room W12-140, Washington, DC 20590, between 9 a.m. and 5 p.m., Monday through Friday, except Federal Holidays. Telephone: (202) 366-9826.

Privacy Act: Anyone is able to search the electronic form of all comments received into any of our dockets by the name of the individual submitting the comment (or signing the comment, if submitted on behalf of an association, business, labor union, etc.). You may review DOT's complete Privacy Act Statement in the Federal Register published on April 11, 2000, (Volume 65, Number 70; Pages 19477-78) or you may visit http://www.dot.gov/privacy.html.

Confidential Business Information: If you wish to submit any information under a claim of confidentiality, you should submit three copies of your complete submission, including the information you claim to be confidential business information, to the Chief Counsel, NHTSA, at the address given under FOR FURTHER INFORMATION CONTACT. In addition, you should submit two copies, from which you have deleted the claimed confidential business information, to Docket Management at the address given above. When you send a comment containing information claimed to be confidential business information, you should include a cover letter setting forth the information specified in our confidential business information regulation (49 CFR Part 512).

FOR FURTHER INFORMATION CONTACT: If you have questions about registering for the public meeting, please contact Dr. Julie Kang, U.S. Department of Transportation, National Highway Traffic Safety Administration, email: julie.kang@dot.gov; telephone: (202) 366-5677; facsimile: (202) 366-8546; mail: National Highway Traffic Safety Administration, 1200 New Jersey Avenue SE., Washington, DC 20590.

For questions about technical issues concerning the Phase 2 Driver Distraction Guidelines, you may contact Dr. Christopher Monk, U.S. Department of Transportation, National Highway Traffic Safety Administration, email: chris.monk@dot.gov; telephone: (202) 366-5195, facsimile: (202) 366-8546; mail: National Highway Traffic Safety Administration, 1200 New Jersey Avenue Southeast, West Building, Washington, DC 20590. See SUPPLEMENTARY INFORMATION for more detail.

SUPPLEMENTARY INFORMATION: Registration is necessary for all attendees. Please provide the following information to Dr. Kang no later than March 3, 2014: Name and affiliation, and please indicate whether you require accommodations such as a sign language interpreter or translator. Space is limited, so advanced registration is highly encouraged. As noted in Public Meeting Procedures, attendees will be given the opportunity to offer technical remarks but there will not be time for attendees to make audio-visual presentations during the meeting. Attendees wishing to make technical remarks should register with Dr. Kang by March 7, 2014. Note: we may not be able to accommodate all attendees who wish to make oral remarks. Should it be necessary to cancel the meeting due to inclement weather or other emergency, NHTSA will take all available measures to notify registered participants.

You may learn more about the current (Phase 1) NHTSA Guidelines by visiting the Department of Transportation's Web site on distracted driving, www.distraction.gov, NHTSA's Web site, www.nhtsa.gov, or by searching the public docket (NHTSA-2010-0053) at www.regulations.gov.

Background

NHTSA is concerned about the effects of driver distraction on motor vehicle safety. Crash data show that 17 percent (an estimated 899,000) of all police-reported crashes involved some type of driver distraction in 2010. Of those 899,000 crashes, distraction by a device or control integral to the vehicle was reported in 26,000 crashes (3% of the distraction-related police-reported crashes).

In June 2012, NHTSA released a “Blueprint for Ending Distracted Driving,” summarizing steps that NHTSA intends to take to eliminate crashes attributable to driver distraction. This document was an update of the “Overview of the National Highway Traffic Safety Administration's Driver Distraction Program” that was released in April 2010 (both documents available at www.distraction.gov).

One of the steps called for in both of these documents is the development of nonbinding, voluntary guidelines for minimizing the distraction potential of in-vehicle and portable devices. Since 2010, NHTSA has stated that guidelines would be developed in three phases. The first phase covers visual-manual interfaces of electronic devices installed in vehicles as original equipment and was released for public comment in February 2012. The final version of the Phase 1 Distraction Guidelines was published in April 2013. The second phase will include visual-manual interfaces of portable and aftermarket devices. NHTSA is currently developing its proposal and this public meeting will inform that proposal. The third phase will expand these guidelines to include auditory-vocal interfaces.

In 2013, the Consumer Electronics Association (CEA) initiated a Working Group to develop industry-based recommended practices for portable electronic devices used by drivers in vehicles (formally named R6 WG18 Driver-Device Interface Working Group). The voluntary recommended practices are intended to address the issue of driver distraction related to the use of portable electronic devices. The recommendations are intended to be used by consumers, portable electronic device manufacturers, software developers, and any other interested parties to improve the safety of driving and non-driving-related task performance. NHTSA was invited to participate in this activity and has sent liaisons to the working group meetings since its inception. To aid this process, NHTSA has provided explanations and the rationales for aspects of NHTSA's Visual-Manual Driver Distraction Guidelines, as well as participated in discussions regarding applying those basic principles to the complex multi-part ecosystem of portable electronic devices. The working group has stated that it will use the principles that NHTSA established with its Phase 1 Guidelines to guide its work.

Driver Distraction Guidelines

The NHTSA Driver Distraction Guidelines are meant to promote safety by discouraging the introduction of excessively distracting devices in vehicles. On April 26, 2013, NHTSA issued the first phase of these guidelines.¹ The Phase 1 Guidelines cover original equipment (OE) in-vehicle (i.e., integrated) electronic devices that are operated by the driver through visual-manual means (i.e., the driver looks at a device, manipulates a device-related control with his or her hand, and/or watches for visual feedback from the device). The Phase 2 Guidelines will apply to portable and aftermarket devices that are operated through visual-manual means and will be based on the same general principles as the Phase 1 Guidelines, namely:

¹ 78 FR 24817 (Apr. 26, 2013).

• The driver's eyes should usually be looking at the road ahead,

• The driver should be able to keep at least one hand on the steering wheel,

• Any task performed by a driver should be interruptible at any time,

• The driver should control the human-machine interface and not vice versa, and

• Displays should be easy for the driver to see.

Public Meeting

To support NHTSA's development of the Phase 2 Distraction Guidelines, NHTSA is hosting a public meeting to bring together vehicle manufacturers and suppliers, portable and aftermarket device manufacturers, portable and aftermarket device operating system providers, cellular service providers, industry associations, “app” developers, researchers, and consumer groups to discuss technical issues regarding the agency's development of Phase 2 Driver Distraction Guidelines for portable and aftermarket devices. NHTSA will present an overview of the Phase 1 Driver Distraction Guidelines as background for its presentation on the key technical issues in Phase 2. Industry associations will have the opportunity to present their own efforts to produce guidelines or recommended practices for portable and aftermarket devices that could be used by drivers inside the vehicle. The meeting will also include three panels of invited experts addressing the following technical topics: (1) vehicle and portable/aftermarket device pairing, (2) driver mode, and (3) advanced technologies such as heads-up displays and those that automatically distinguish between devices used by drivers and passengers.

The meeting will be open to the public, but participation in the expert panels will be limited and by invitation only in order to ensure that all of the topics can be addressed in the time available. However, the floor will be open to those attendees who pre-registered to offer brief technical comments. Anyone, including those persons who wishing to supplement their oral comments, may submit written comments.

Draft Agenda

1. Welcome and Opening Remarks

2. Technical Background for the Phase 2 Distraction Guidelines—NHTSA

a. Phase 1 Distraction Guidelines Overview

b. Technical Approach to the Phase 2 Distraction Guidelines

3. Industry Efforts—Industry Associations

4. Panel 1: Pairing

a. Introduction of the topic—NHTSA

b. Invited technical experts on pairing

c. Questions and discussion by NHTSA and panel members, and remarks from attendees

5. Break

6. Panel 2: Driver Mode

a. Introduction of the topic—NHTSA

b. Invited technical experts on driver mode

c. Questions and discussion by NHTSA and panel members, and remarks from attendees

7. Panel 3: Advanced Technologies

a. Introduction of the topic—NHTSA

b. Invited technical experts on advanced technologies

c. Questions and discussion by NHTSA and panel members, and remarks from attendees

8. Wrap-Up—NHTSA

Panel Topics

NHTSA has identified three major areas related to portable and aftermarket devices that the agency would like to discuss at the public meeting. The first topic is that of pairing devices with the vehicle's electronics, whether through wired or wireless connection. Many newer vehicles already offer this capability and NHTSA sees it as an important topic to address. The second topic is related to unpaired devices, and the implementation of “driver mode” on the device. Driver mode is a simplified user interface that is intended to minimize distraction experienced by a driver using that device. Finally, a third topic relates to a broader set of questions surrounding advanced technologies, including heads-up displays and the capability of portable and aftermarket devices and the vehicle system to automatically distinguish whether a device is located in the driver's position or a passenger's position. The invited panelists will be asked to speak to the following topics and related issues.

1. Paired—NHTSA wants to hear views on using pairing of portable and aftermarket devices as a means for focusing the drivers' interactions through the in-vehicle controls and display system. NHTSA is also interested in learning about new developments in the pairing or connecting of devices with the vehicle's electronics, and how pairing or other similar technologies that connect devices and the vehicle will progress into the marketplace.

2. Driver Mode—NHTSA would like input on current and future driver mode systems. Specifically, what are the potential barriers and proposed solutions faced by mobile carriers, operating system providers, and application developers to adapt an overall system where all applications available in driver mode offer a simplified user interface? NHTSA is interested in any general information on the usage rates of current driver mode implementations. In addition, NHTSA would like to hear about any driver modes that are automatically initiated when the vehicle is moving.

3. Advanced Technologies—NHTSA is eager to learn about new developments in portable device technologies that use advanced display features such as heads-up displays and how they relate to the scope of the Phase 2 Guidelines. NHTSA is also interested in technology to determine the location of portable and aftermarket devices within the vehicle, thereby automatically determining whether the device is operated by the driver versus passengers while driving.

The panels will be made up of invited technical experts from vehicle manufacturers and suppliers, portable and aftermarket device manufacturers, portable and aftermarket device operating system providers, cellular service providers, industry associations, or “app” developers that can provide information and insight on the selected topic. It is envisioned that each panel will have three speakers, each speaking for about 10 minutes, with an additional 20 minutes for discussion between panelists and NHTSA, and prepared technical remarks from attendees.

Background information concerning the Driver Distraction Guidelines in particular and the problem of distracted driving in general is available at http://www.distraction.gov/.

Public Meeting Procedures

NHTSA will conduct the meeting informally. Thus, technical rules of evidence will not apply. We will arrange for a written transcript of the meeting. For planning purposes, attendees that wish to make technical remarks after each panel should anticipate speaking for approximately five minutes, although we may need to shorten that time if there is a large number of people wishing to provide remarks. Once we learn how many people have registered to provide technical remarks, we will allocate an appropriate amount of time to each speaker, allowing time for necessary breaks. We request that you bring three copies of your technical remarks or other material to the public meeting. To accommodate as many speakers as possible, speakers will not be able to use audio-visual aids or computer slideshows. Attendees wishing to provide supplementary written information should submit it to the address given above for written comments by the May 12, 2014, deadline for those comments. Written statements and supporting information submitted during the comment period will be considered with the same weight as oral comments and supporting information presented at the public meeting.

Issued in Washington, DC under authority delegated by 49 CFR 1.95.
Daniel C. Smith,
Senior Associate Administrator for Vehicle Safety.

[FR Doc. 2014-03064 Filed 2-7-14; 4:15 pm]

BILLING CODE 4910-59-P